DEPARTMENT OF HEALTH AND HUMAN SERVICES

Health Resources and Services Administration

Advisory Commission on Childhood Vaccines; Notice of Meeting

AGENCY: Health Resources and Services Administration, HHS.

ACTION: Correction.

SUMMARY: The Health Resources and Services Administration published a notice in the Federal Register, FR 2012-28377 (77 FR 70169, November 23, 2012), announcing the meeting of the Advisory Commission on Childhood Vaccines, December 6, 2012, in the Parklawn Building (and via audio conference call), Conference Rooms 10-65, 5600 Fishers Lane, Rockville, MD 20857.

Correction

In the Federal Register, FR 2012-28377 (77 FR 70169, November 23, 2012), please make the following corrections:

In the Date and Time section, correct to read December 6, 2012, 1:00 p.m. to 5:00 p.m., EDT.

In the Place section, correct to read via audio conference only.

The ACCV will meet on Thursday, December 6, from 1:00 p.m. to 5:00 p.m. (EDT). The public can join the meeting via audio conference call by dialing 1-800-369-3104 on December 6 and providing the following information: Leader's Name: Dr. Vito Caserta. Password: ACCV.

Dated: November 26, 2012.
Bahar Niakan,
Director, Division of Policy and Information Coordination.

[FR Doc. 2012-29008 Filed 11-29-12; 8:45 am]

BILLING CODE 4165-15-P